DEPARTMENT OF EDUCATION

Office of Innovation and Improvement; Overview Information; Parental Information and Resource Centers (PIRC); Notice Inviting Applications for a New PIRC Award for Fiscal Year (FY) 2007 To Serve Guam

Catalog of Federal Domestic Assistance (CFDA) Number: 84.310A.

Dates: Applications Available: February 2, 2007.

Deadline for Notice of Intent to Apply: March 2, 2007.

Deadline for Transmittal of Applications: March 30, 2007.

Deadline for Intergovernmental Review: May 29, 2007.

Eligible Applicants: Nonprofit organizations, or consortia of nonprofit organizations and local educational agencies (LEAs), proposing a PIRC project to provide services only in Guam. The Secretary seeks to have a PIRC project to assist parents in each State. We are limiting eligible applicants to organizations that would provide services in Guam because no applicant from the FY 2006 competition that proposed to provide services in Guam proposed a project of sufficient quality to demonstrate that it was likely to succeed in meeting the purposes of the PIRC program. Except for the State of Delaware and Guam, at least one application was funded in each of the other States from the FY 2006 PIRC competition. Note that for the purposes of this notice, the term “State” includes Guam. A notice inviting applications to provide PIRC services in the State of Delaware is published elsewhere in this issue of the Federal Register.

Faith-based and community organizations are eligible to apply for funding provided that they are nonprofit organizations, as defined elsewhere in this notice.

For an application submitted by a consortium that includes a nonprofit organization and one or more LEAs, the nonprofit organization must serve as the applicant and fiscal agent for the consortium. State and local governments, including LEAs, intermediate school districts, and schools, are not eligible to submit an application on behalf of a consortium or serve as the fiscal agent of a PIRC grant.

Applications proposing to implement PIRC projects in other States and applications proposing PIRC projects to provide services in more than one State (even if an application includes services in Guam) will not be considered.

Note: We define the term nonprofit organization for purposes of the PIRC program as an organization that—

(1) Is owned and operated by one or more corporations or associations whose net earnings do not benefit, and cannot lawfully benefit, any private shareholder or entity, as set forth in 34 CFR part 77; and

(2) Represents the interests of parents of pre-school and school-age children (including parents who are educationally or economically disadvantaged), or is governed by a board of directors whose membership includes such parents.

Estimated Available Funds: $500,000 per year. The Administration's budget request for FY 2007 does not include funds for this program. However, we are inviting applications to allow enough time to complete the grant process if Congress appropriates funds for this program.

Estimated Number of Awards: 1.

Note: The Department is not bound by any estimates in this notice.

Project Period: Up to four years.

Full Text of Announcement

I. Funding Opportunity Description

Purpose of Program: The purpose of the PIRC program is to help implement successful and effective parental involvement policies, programs, and activities that lead to improvements in student academic achievement and strengthen partnerships among parents, teachers, principals, administrators, and other school personnel in meeting the educational needs of children.

The PIRC program supports school-based and school-linked parental information and resource centers that—

(1) Help implement effective parental involvement policies, programs, and activities that will improve children's academic achievement;

(2) Develop and strengthen partnerships among parents (including parents of children from birth through age five), teachers, principals, administrators, and other school personnel in meeting the educational needs of children;

(3) Develop and strengthen the relationship between parents and their children's school;

(4) Further the developmental progress of children assisted under the program;

(5) Coordinate activities funded under the program with parental involvement initiatives funded under section 1118 and other provisions of the Elementary and Secondary Education Act of 1965, as amended (ESEA); and

(6) Provide a comprehensive approach to improving student learning, through coordination and integration of Federal, State, and local services and programs.

The Secretary reminds all applicants that section 5563(b) of the ESEA, as amended, requires each PIRC grantee to meet several specific conditions. The Secretary strongly encourages all applicants to review each of these conditions carefully to ensure that their applications appropriately address each of the areas addressed by section 5563(b).

Priorities: We have established five competitive preference priorities that are explained in the following paragraphs. One competitive preference priority is from the regulations in 34 CFR 75.225, another competitive preference priority is from the statute for this program, and the other three competitive preference priorities are from the notice of final priorities and eligibility requirements (NFP) for this program, published in the March 27, 2006 issue of the Federal Register (71 FR 15308).

Competitive Preference Priorities: The competitive preference priorities are explained in the following paragraphs.

Competitive Preference Priority 1—Novice Applicants.

In accordance with 34 CFR 75.105(b)(2)(ii), this priority is from the regulations in 34 CFR 75.225. For FY 2007 this priority is a competitive preference priority. We give 5 additional points to each novice applicant. These points will be in addition to any points the applicant earns under the selection criteria and other competitive preference priorities.

For the purposes of this grant competition a novice applicant is—

(1) An applicant for a grant from the Department that—

(a) Has never received a grant or subgrant under the program from which it seeks funding;

(b) Has never been a member of a group application, submitted in accordance with 34 CFR 75.127-75.129, that received a grant under the program from which it seeks funding; and

(c) Has not had an active discretionary grant from the Federal Government in the five years before the deadline date for applications under the program.

(2) In the case of a group application submitted in accordance with 34 CFR 75.127 through 75.129, a group that includes only parties that meet the requirements of paragraphs (1)(a) through (c) of this priority.

For the purposes of paragraph (c) of this priority, a grant is active until the end of the grant's project or funding period, including any extensions of those periods that extend the grantee's authority to obligate funds.

Competitive Preference Priority 2—Early Childhood Parent Education.

In accordance with 34 CFR 75.105(b)(2)(iv), this priority is from section 5563(b)(10) of the ESEA (20 U.S.C. 7273b). For FY 2007 this priority is a competitive preference priority. Under 34 CFR 75.105(c)(2)(i) we award up to an additional 10 points to an application, depending on how well the application meets this priority.

This priority is:

This priority supports applications that would implement effective plans to use at least 30 percent of the funds received in each fiscal year to establish, expand, or operate Parents as Teachers programs, Home Instruction for Pre-school Youngsters programs, or other early childhood parent education programs.

Competitive Preference Priorities 3, 4, and 5: These priorities are from the NFP for this program, published in the March 27, 2006 issue of the Federal Register (71 FR 15308). Under 34 CFR 75.105(c)(2)(i), we award up to an additional 35 points to an application, depending on how well the application meets these priorities. The maximum possible points for each priority are indicated in parentheses following the name of the competitive preference priority.

These priorities are:

Competitive Preference Priority 3—Statewide Impact of PIRC Services (15 points).

This priority supports applications that would implement broad statewide strategies to provide parents from across the State, particularly parents who are educationally or economically disadvantaged, with services that enhance their ability to participate effectively in their child's education, including their ability to communicate effectively with public school personnel in the school that their child attends.

Competitive Preference Priority 4—Understanding State and Local Report Cards and Opportunities for Public School Choice and Supplemental Educational Services (10 points).

This priority supports applications that would implement activities that effectively assist parents in understanding State and local report cards under Title I of the ESEA and, in cases where their child attends a school identified as in need of improvement, corrective action, or restructuring under Title I, in understanding their options for public school choice or supplemental educational services.

Competitive Preference Priority 5—Technical Assistance in the Implementation of Local Educational Agency and School Parental Involvement Policy under Section 1118 of the ESEA (10 points).

This priority supports applications that would provide technical assistance in the implementation of LEA and school parental involvement policies under Title I of the ESEA in order to improve student academic achievement and school performance.

Program Authority: 20 U.S.C. 7273 et seq.

Applicable Regulations: (a) The Education Department General Administrative Regulations (EDGAR) in 34 CFR parts 74, 75, 76, 77, 79, 81, 82, 84, 85, 86, 97, 98, and 99. (b) The notice of final priorities and eligibility requirements for this program, published in the March 27, 2006 issue of the Federal Register (71 FR 15308).

Note: The regulations in 34 CFR part 86 apply to institutions of higher education only.

II. Award Information

Type of Award: Discretionary grants.

Estimated Available Funds: $500,000 per year. The Administration's budget request for FY 2007 does not include funds for this program. However, we are inviting applications to allow enough time to complete the grant process if Congress appropriates funds for this program.

Estimated Number of Awards: 1.

Note: The Department is not bound by any estimates in this notice.

Project Period: Up to four years.

III. Eligibility Information

1. Eligible Applicants: Nonprofit organizations, or consortia of nonprofit organizations and LEAs, proposing a PIRC project to provide services only in Guam. The Secretary seeks to have a PIRC project to assist parents in each State. We are limiting eligible applicants to organizations that would provide services in Guam because no applicant from the FY 2006 competition that proposed to provide services in Guam proposed a project of sufficient quality to demonstrate that it was likely to succeed in meeting the purposes of the PIRC program. Except for the State of Delaware and Guam, at least one application was funded in each of the other States from the FY 2006 PIRC competition. Note that for the purposes of this notice, the term “State” includes Guam. A notice inviting applications to provide services in the State of Delaware is published elsewhere in this issue of the Federal Register.

Faith-based and community organizations are eligible to apply for funding provided that they are nonprofit organizations, as defined elsewhere in this notice.

For an application submitted by a consortium that includes a nonprofit organization and one or more LEAs, the nonprofit organization must serve as the applicant and fiscal agent for the consortium. State and local governments, including LEAs, intermediate school districts, and schools, are not eligible to submit an application on behalf of a consortium or serve as the fiscal agent of a PIRC grant.

Applications proposing to implement PIRC projects in other States and applications proposing PIRC projects to serve more than one State (even if an application includes services to Guam) will not be considered.

Note: We define the term nonprofit organization for purposes of the PIRC program as an organization that—

(1) Is owned and operated by one or more corporations or associations whose net earnings do not benefit, and cannot lawfully benefit, any private shareholder or entity, as set forth in 34 CFR part 77; and

(2) Represents the interests of parents of pre-school and school-age children (including parents who are educationally or economically disadvantaged), or is governed by a board of directors whose membership includes such parents.

2. Cost Sharing or Matching: Section 5565(a) of the ESEA requires that, after the first fiscal year of an award, a portion of the services provided by the organization or consortium must be supported through non-Federal contributions, either in cash or in kind.

IV. Application and Submission Information

1. Address to Request Application Package: Fatimah Dozier, U.S. Department of Education, 400 Maryland Avenue, SW., Room 4W236, FB6, Washington, DC 20202-5970. Telephone: (202) 260-8757 or by e-mail: fatimah.dozier@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition. Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. This e-mail notification should be sent to Fatimah Dozier at fatimah.dozier@ed.gov.

Applicants that fail to provide this e-mail notification may still apply for funding. Page Limit: The application narrative (Part III of the application) is where you, the applicant, address the selection criteria and competitive preference priorities that reviewers use to evaluate your application. The Secretary strongly encourages applicants to limit Part III to the equivalent of no more than 50 pages, using the following standards:

• A “page” is 8.5″ x 11″ on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The suggested page limit does not apply to Part I, the cover sheet; Part II, the budget section, including the narrative budget justification; Part IV, the assurances and certifications; or the one-page abstract, the resumes, the bibliography, or the letters of support. However, you must include all of the application narrative in Part III.

3. Submission Dates and Times:

Applications Available: February 2, 2007.

Deadline for Notice of Intent to Apply: March 2, 2007.

Deadline for Transmittal of Applications: March 30, 2007.

Applications for grants under this competition must be submitted electronically using the Grants.gov Apply site (Grants.gov). For information (including dates and times) about how to submit your application electronically, or by mail or hand delivery if you qualify for an exception to the electronic submission requirement, please refer to section IV. 6. Other Submission Requirements in this notice.

We do not consider an application that does not comply with the deadline requirements.

Individuals with disabilities who need an accommodation or auxiliary aid in connections with the application process should contact the person listed under FOR FURTHER INFORMATION CONTACT.

We do not consider an application that does not address the application requirements, selection criteria, and other required information outlined in the application package.

Deadline for Intergovernmental Review: May 29, 2007.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements. Applications for grants under this competition must be submitted electronically unless you qualify for an exception to this requirement in accordance with the instructions in this section.

a. Electronic Submission of Applications. Applications for grants under the PIRC program, CFDA Number 84.310A must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the PIRC program at http://www.Grants.gov You must search for the downloadable application package for this program or competition by the CFDA number. Do not include the CFDA number's alpha suffix in your search (e.g., search for 84.310, not 84.310A).

Please note the following:

• When you enter the Grants.gov site, you will find information about submitting an application electronically through the site, as well as the hours of operation.

• Applications received by Grants.gov are date and time stamped. Your application must be fully uploaded and submitted, and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Steven L. Brockhouse, U.S. Department of Education, 400 Maryland Avenue, SW., Room 4W229, FB6, Washington, DC 20202-5970. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.310A), 400 Maryland Avenue, SW., Washington, DC 20202-4260 or

By mail through a commercial carrier: U.S. Department of Education, Application Control Center, Stop 4260, Attention: (CFDA Number 84.310A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.310A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from 34 CFR 75.210 of EDGAR. The maximum score for all the selection criteria is 100 points. The maximum score for each criterion is indicated in parentheses. Each criterion also includes the factors that the reviewers will consider in determining how well an application meets the criterion. The Note following selection criterion (g) is guidance to help applicants in preparing their applications, and is not required by statute or regulations.

The selection criteria are:

(a) Need for project (10 points). The Secretary considers the need for the proposed project. In determining the need for the proposed project, the Secretary considers the extent to which the proposed project will provide services or otherwise address the needs of students at risk of educational failure.

(b) Quality of the project design (20 points). The Secretary considers the quality of the design of the proposed project. In determining the quality of the design of the proposed project, the Secretary considers—

(1) The extent to which the goals, objectives, and outcomes to be achieved by the proposed project are clearly specified and measurable;

(2) The extent to which the proposed project represents an exceptional approach for meeting statutory purposes and requirements; and

(3) The extent to which the proposed project will be coordinated with similar or related efforts, and with other appropriate community, State, and Federal resources.

(c) Quality of project services (15 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. The Secretary also considers—

(1) The likely impact of the services to be provided by the proposed project on the intended recipients of those services; and

(2) The extent to which the technical assistance services to be provided by the proposed project involve the use of efficient strategies, including the use of technology, as appropriate, and the leveraging of non-project resources.

(d) Quality of project personnel (15 points). The Secretary considers the quality of the personnel who will carry out the proposed project. In determining the quality of project personnel, the Secretary considers the extent to which the applicant encourages applications for employment from persons who are members of groups that have traditionally been underrepresented based on race, color, national origin, gender, age, or disability. The Secretary also considers—

(1) The qualifications, including relevant training and experience, of key project personnel; and

(2) The qualifications, including relevant training and experience, of project consultants or subcontractors.

(e) Adequacy of resources (10 points). The Secretary considers the adequacy of resources for the proposed project. In determining the adequacy of resources for the proposed project, the Secretary considers—

(1) The adequacy of support, including facilities, equipment, supplies, and other resources, from the applicant organization or the lead applicant organization; and

(2) The extent to which the costs are reasonable in relation to the number of persons to be served and to the anticipated results and benefits.

(f) Quality of the management plan (10 points). The Secretary considers the quality of the management plan for the proposed project. In determining the quality of the management plan for the proposed project, the Secretary considers the adequacy of the management plan to achieve the objectives of the proposed project on time and within budget, including clearly defined responsibilities, timelines, and milestones for accomplishing project tasks.

(g) Quality of the project evaluation (20 points). The Secretary considers the quality of the evaluation to be conducted of the proposed project. In determining the quality of the evaluation, the Secretary considers—

(1) The extent to which the methods of evaluation include the use of objective performance measures that are clearly related to the intended outcomes of the project and will produce quantitative and qualitative data to the extent possible; and

(2) The extent to which the methods of evaluation will provide performance feedback and permit periodic assessment of progress toward achieving intended outcomes.

VI. Award Administration Information

1. Award Notices: If your application is successful, we will notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For specific requirements on grantee reporting, please go to the ED Performance Report Form 524B at http://www.ed.gov/fund/grant/apply/appforms/appforms.html.

4. Performance Measures: We have established three performance indicators for the PIRC program. These performance indicators are: (1) The number of parents who are participating in PIRC activities designed to provide them with the information necessary to understand their State accountability systems and the rights and opportunities for supplemental services and public school choice afforded to their children under section 1116 of the ESEA; (2) the percentage of customers (parents, educators in State and local educational agencies, and other audiences) reporting that PIRC services are of high quality; and (3) the percentage of customers reporting that PIRC services are highly useful to them.

The Department intends to collect data for the first indicator through annual performance reports and to collect data for the second and third indicators through a customer satisfaction survey.

VII. Agency Contact

For Further Information Contact: Steven L. Brockhouse, U.S. Department of Education, 400 Maryland Avenue, SW., Room 4W229, FB6, Washington, DC 20202-5961. Telephone: (202) 260-2476 or by e-mail: steve.brockhouse@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: January 30, 2007.
Morgan S. Brown,
Assistant Deputy Secretary for Innovation and Improvement.

[FR Doc. E7-1743 Filed 2-1-07; 8:45 am]

BILLING CODE 4000-01-P